DEPARTMENT OF COMMERCE

National Oceanic and Atmospheric Administration

Federal Consistency Appeal by Villa Marina Yacht Harbour, Inc.

AGENCY: National Oceanic and Atmospheric Administration (NOAA), Department of Commerce (Commerce).

ACTION: Notice of appeal.

SUMMARY: This announcement provides notice that Villa Marina Yacht Harbour, Inc. (Villa Marina) has filed an administrative appeal with the Department of Commerce requesting that the Secretary override the Puerto Rico Planning Board's (PRPB) objection to the proposed expansion of an existing marina in Fajardo, Puerto Rico.

DATES: Comments must be sent to the NOAA, Office of the General Counsel for Ocean postmarked or e-mailed no later than September 30, 2009. Requests for a public hearing must be filed within 30 days of publication of this notice.

ADDRESSES: Materials from the appeal record will be available at the NOAA, Office of the General Counsel for Ocean Services, 1305 East-West Highway, Room 6111, Silver Spring, MD 20910 and on the following Web site: http://www.ogc.doc.gov/czma.htm.

FOR FURTHER INFORMATION CONTACT: Gladys P. Miles, Attorney-Advisor, NOAA, Office of the General Counsel, 301-713-7384 or at gcos.inquiries@noaa.gov.

SUPPLEMENTARY INFORMATION:

I. Notice of Appeal

Villa Marina has filed notice of an appeal with the Secretary of Commerce (Secretary), pursuant to the Coastal Zone Management Act of 1972 (CZMA), 16 U.S.C. 1451 et seq., and implementing regulations found at 15 CFR Part 930, Subpart H. The appeal is taken from an objection by PRPB to Villa Marina's consistency certification for a U.S. Army Corps of Engineers permit for a marina expansion in Fajardo, Puerto Rico.

Under the CZMA, the Secretary may override PRPB's objection on grounds that the proposed activity is consistent with the objectives or purposes of the CZMA or otherwise necessary in the interest of national security. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the PRPB's coastal management program. 15 CFR 930.121. Conversely, to make the determination that the proposed activity is “necessary in the interest of national security,” the Secretary must find that a national defense or other national security interest would be significantly impaired were the activity not permitted to go forward as proposed. 15 CFR 930.122.

II. Opportunity for Federal Agency and Public Comment

Pursuant to Department of Commerce regulations, the public and interested Federal agencies may submit comments on this appeal. Written comments must be sent no later than September 30, 2009 to the NOAA, Office of the General Counsel for Ocean Services, 1305 East-West Highway, Room 6111, Silver Spring, MD 20910 or via e-mail to gcos.comments@noaa.gov.

III. Opportunity for a Public Hearing

Pursuant to Department of Commerce regulations, the Secretary may hold a public hearing on this appeal, either in response to a request for a public hearing or upon his own initiative. A request for a public hearing must be filed with the Secretary within 30 days of the publication of this notice in the Federal Register. If a hearing is held, it shall be noticed in the Federal Register, and the Secretary shall reopen the public and Federal agency comment period for a 10-day period following the hearing. Requests for a public hearing must be sent to the NOAA, Office of the General Counsel for Ocean Services, 1305 East-West Highway, Room 6111, Silver Spring, MD 20910 or via e-mail to gcos.comments@noaa.gov.

IV. Appeal Documents

NOAA intends to provide the public with access to all publicly available materials and related documents comprising the appeal record on the following Web site: http://www.ogc.doc.gov/czma.htm; and during business hours, at the NOAA, Office of the General Counsel for Ocean Services. For additional information concerning this appeal, please contact Gladys P. Miles, Attorney-Advisor, NOAA, Office of the General Counsel, 301-713-7393 or gcos.inquiries@noaa.gov.

Dated: August 19, 2009.
Joel La Bissonniere,
Assistant General Counsel for Ocean Services.

[Federal Domestic Assistance Catalog No. {XX.XXX} Coastal Zone Management Program Assistance.]

[FR Doc. E9-20318 Filed 8-21-09; 8:45 am]

BILLING CODE P